DEPARTMENT OF HOMELAND SECURITY

Federal Emergency Management Agency

[Docket ID FEMA-2020-0002; Internal Agency Docket No. FEMA-B-2032]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before August 31, 2020.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-2032, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
DeSoto County, Florida and Incorporated Areas
Project: 14-04-2183S Preliminary Date: July 12, 2019
Unincorporated Areas of DeSoto County | DeSoto County Planning Department, 201 East Oak Street, Arcadia, FL 34266.
Hendry County, Florida and Incorporated Areas
Project: 14-04-2182S Preliminary Date: June 27, 2019
City of LaBelle | Building Department, 481 West Hickpochee Avenue, LaBelle, FL 33935.
Unincorporated Areas of Hendry County | Hendry County Engineering Department, 99 East Cowboy Way, LaBelle, FL 33935.
Lee County, Florida and Incorporated Areas
Project: 14-04-2182S Preliminary Date: June 28, 2019
City of Bonita Springs | Community Development, 9220 Bonita Beach Road, Bonita Springs, FL 34135.
City of Cape Coral | Community Development, 1015 Cultural Park Boulevard, Cape Coral, FL 33990.
City of Fort Myers | Building Department, 1825 Hendry Street, Fort Myers, FL 33901.
City of Sanibel | City Hall, 800 Dunlop Road, Sanibel, FL 33957.
Town of Fort Myers Beach | Public Works Department, 2525 Estero Boulevard, Fort Myers Beach, FL 33931.
Unincorporated Areas of Lee County | Lee County Community Development and Public Works Center, 1500 Monroe Street, Fort Myers, FL 33901.
Village of Estero | Community Development Department, 9401 Corkscrew Palms Circle, 1st Floor, Estero, FL 33928.
Hays County, Texas and Incorporated Areas
Project: 16-06-1113S Preliminary Date: October 29, 2019
City of San Marcos | Engineering Department, Municipal Building, 630 East Hopkins Street, San Marcos, TX 78666.
City of Wimberley | Planning and Development Department, 221 Stillwater Road, Wimberley, TX 78676.
Unincorporated Areas of Hays County | Hays County Development Services Department, 2171 Yarrington Road, Suite 100, Kyle, TX 78640.
Pulaski County, Virginia and Incorporated Areas
Project: 18-03-0014S Preliminary Date: January 31, 2020
Town of Pulaski | Municipal Building, 42 1st Street Northwest, Pulaski, VA 24301.
Unincorporated Areas of Pulaski County | Pulaski County Administration Building, 143 3rd Street Northwest, Pulaski, VA 24301.
Nicholas County, West Virginia and Incorporated Areas
Project: 19-03-0002S Preliminary Date: November 22, 2019
City of Richwood | J.H. Meadows Municipal Complex, 6 White Avenue, Richwood, WV 26261.
Unincorporated Areas of Nicholas County | Nicholas County Division of Homeland Security and Emergency Management, 511 Church Street, LO2, Summersville, WV 26651.
Summers County, West Virginia and Incorporated Areas
Project: 19-03-0002S Preliminary Date: November 22, 2019
City of Hinton | City Hall, 322 Summers Street, Hinton, WV 25951.
Unincorporated Areas of Summers County | Summers County Courthouse, 120 Ballengee Street, Suite 203, Hinton, WV 25951.

[FR Doc. 2020-11726 Filed 5-29-20; 8:45 am]

BILLING CODE 9110-12-P